FEDERAL MARITIME COMMISSION

[Docket No. 23-10]

Bed Bath & Beyond Inc., Complainant v. Yang Ming Marine Transport Corp., Respondent; Notice of Filing of Complaint and Assignment

Served: September 12, 2023.

Notice is given that a complaint has been filed with the Federal Maritime Commission (the “Commission”) by Bed Bath & Beyond Inc. (the “Complainant”) against Yang Ming Marine Transport Corp. (the “Respondent”). Complainant states that the Commission has subject-matter jurisdiction over the complaint under the Shipping Act of 1984, as amended, 46 U.S.C. 40101 et seq. (the “Shipping Act”) and personal jurisdiction over the Respondent as an ocean common carrier who entered into a service contract with Complainant.

Complainant is a corporation existing under the laws of New York with a principal place of business in Union, New Jersey, and a shipper for the purposes of the allegations made in the complaint.

Complainant identifies Respondent as a company existing under the laws of Taiwan with a principal place of business in Keelung, Taiwan, and an ocean common carrier.

Complainant alleges that Respondent violated 46 U.S.C. 41102(c), 41104(a)(2), 41104(a)(10), and 41102(d), and 46 CFR 545.5 regarding a failure to establish, observe, and enforce just and reasonable practices relating to receiving, handling, storing, and delivering property; a failure to provide service in the liner trade that is in accordance with a service contract; an unreasonable refusal to deal or negotiate; and retaliation against a shipper. Complainant alleges these violations arose from a failure to allocate space as agreed upon and instead, allocating space to shippers willing to pay higher freight prices; a condition on performance requiring the payment of extracontractual prices and surcharges, such as peak season surcharges throughout more than 90% of the service contract period, prior to full performance of its service commitments; an unreasonable assessment of demurrage and detention charges during periods of congestion and shortages of equipment at ports; and a refusal to deal unless an amendment reducing the minimum quantity commitments under the service contract was agreed to.

An answer to the complaint must be filed with the Commission within twenty-five (25) days after the date of service.

The full text of the complaint can be found in the Commission's electronic Reading Room at https://www2.fmc.gov/readingroom/proceeding/23-10/. This proceeding has been assigned to the Office of Administrative Law Judges. The initial decision of the presiding judge shall be issued by September 12, 2024, and the final decision of the Commission shall be issued by March 27, 2025.

Jason Guthrie,
Federal Register Alternate Liaison Officer, Federal Maritime Commission.

[FR Doc. 2023-20035 Filed 9-14-23; 8:45 am]

BILLING CODE 6730-02-P